Title 3—

The President

Proclamation 10837 of October 11, 2024

National School Lunch Week, 2024

By the President of the United States of America

A Proclamation

America's children deserve every opportunity to live fulfilling and healthy lives, and nutritious meals are key components in building those lives. During National School Lunch Week, we reaffirm that the health and well-being of our Nation's children are a national priority. We recommit to doing everything we can to end child hunger. And we celebrate school nutrition professionals, who do the critical work of planning, preparing, and serving nutritious school meals to more than 30 million students each day.

Healthy school lunches benefit our Nation's students and their families. Fueled by a good lunch, students can better focus in the classroom and be set up for success throughout the rest of their day. Free and reduced-price school meals provide families with some breathing room. And for families that live in areas where there are no grocery stores with healthy food options nearby, school meals can be a lifeline—offering children reliable, nutritious meals.

My Administration is committed to putting a healthy school lunch within reach of all our Nation's children, no matter their family's income. That is why we are giving more schools the option to make free school meals available to every student, and we published a final rule updating nutrition standards for school meals to improve children's health. For the first time since 1975, we modernized the Thrifty Food Plan, making a healthy diet more affordable for the millions of families with Supplemental Nutrition Assistance Program benefits. These actions are a part of our national strategy to end hunger and reduce diet-related diseases by 2030. That plan includes the goal of expanding access to healthy, free school meals to nine million more kids—working toward a future where every kid has access to one. We also hosted the first White House Conference on Hunger, Nutrition, and Health in over 50 years. Since then, we have galvanized over $10 billion in external commitments dedicated to ending hunger and reducing diet-related diseases in children and families across the country. Furthermore, we are giving schools the resources they need to purchase food from local farmers and ranchers and cook meals from scratch—giving kids healthier options and powering our rural economy.

My Administration is taking steps to ensure our Nation's children and families do not go hungry and can afford healthy food. This year my Administration launched SUN Bucks—also referred to as Summer Electronic Benefits Transfer—to provide families with money to buy groceries when school is out, reaching an estimated 21 million children. My American Rescue Plan expanded the Child Tax Credit, slashing child poverty by nearly 50 percent and helping keep food on the table for millions of families during the pandemic. I continue to call on the Congress to restore the enhanced Child Tax Credit to ensure families have the money they need to feed and care for their kids.

During National School Lunch Week, we recognize how important school lunches are to kids and families alike and recommit to expanding access to healthy, free school meals to support the health of the next generation. And we thank all the school staff, school nutrition professionals, educators, and school leaders, whose tireless work nourishes the future leaders of our Nation.

NOW, THEREFORE, I, JOSEPH R. BIDEN JR., President of the United States of America, by virtue of the authority vested in me by the Constitution and the laws of the United States, do hereby proclaim October 13 through October 19, 2024, as National School Lunch Week. I call upon all Americans to recognize and commemorate all those who operate the National School Lunch Program with activities that raise awareness of the steadfast efforts in support of the health and well-being of our Nation's children.

IN WITNESS WHEREOF, I have hereunto set my hand this eleventh day of October, in the year of our Lord two thousand twenty-four, and of the Independence of the United States of America the two hundred and forty-ninth.

[FR Doc. 2024-24139

Filed 10-16-24; 8:45 am]

Billing code 3395-F4-P